NATIONAL AERONAUTICS AND SPACE ADMINISTRATION

[02-017]

Notice of Agency Report Forms Under OMB Review

AGENCY: National Aeronautics and Space Administration (NASA).

ACTION: Notice of Agency Report Forms Under OMB Review.

SUMMARY: The National Aeronautics and Space Administration has submitted to the Office of Management and Budget (OMB) the following proposal for the collection of information under the provisions of the Paperwork Reduction Act (44 U.S.C. Chapter 35).

DATES: Comments on this proposal should be received on or before March 13, 2002.

ADDRESSES: All comments should be addressed to Desk Officer for NASA; Office of Information and Regulatory Affairs; Office of Management and Budget; Room 10236; New Executive Office Building; Washington, DC, 20503.

FOR FURTHER INFORMATION CONTACT: Ms. Nancy Kaplan, NASA Reports Officer, (202) 358-1372.

Reports: None.

Title: NASA Safety Reporting System.

OMB Number: 2700-0063.

Type of Review: Extension.

Need and Uses: NASA employees and contractors can voluntarily and confidentially report to an independent agent, any safety concerns or hazards pertaining to any NASA program or project, which have not been resolved through the normal process.

Affected Public: Federal government.

Estimated Number of Respondents: 75.

Responses Per Respondent: 1.

Estimated Annual Responses: 75.

Estimated Hours Per Request: ¼ hr.

Estimated Annual Burden Hours: 19 hrs.

Frequency of Report: As needed.

David B. Nelson,
Deputy Chief Information Officer, Office of the Administrator.

[FR Doc. 02-3153 Filed 2-8-02; 8:45 am]

BILLING CODE 7510-01-P